FEDERAL ELECTION COMMISSION

Sunshine Act Meetings

FEDERAL REGISTER CITATION NOTICE OF PREVIOUS ANNOUNCEMENT: 83 FR 23682.

PREVIOUSLY ANNOUNCED TIME AND DATE OF THE MEETING: Thursday, May 24, 2018 at 10:00 a.m.

CHANGES IN THE MEETING: The Following Item Was Also Discussed: Adoption of Forty Year Report.

CONTACT PERSON FOR MORE INFORMATION: Judith Ingram, Press Officer, Telephone: (202) 694-1220.

Dayna C. Brown,
Secretary and Clerk of the Commission.

[FR Doc. 2018-11552 Filed 5-24-18; 4:15 pm]

BILLING CODE 6715-01-P